SURFACE TRANSPORTATION BOARD

[Docket No. FD 36904]

Port of Moses Lake—Acquisition Exemption—Moses Lake, Wash

The Port of Moses Lake (Port), a Class III common carrier and municipality in the State of Washington, has filed a verified notice of exemption under 49 CFR 1150.41 to acquire from the Columbia Basin Railroad Company (CBRW) a 0.5-mile stub-ended rail segment extending between a point near Forbes Road and continuing north, terminating just south of Grant County International Airport at approximately milepost 18.3 (formerly milepost 19.97) in Moses Lake, Wash. (the Line).

The verified notice states that the Line is connected to a larger endeavor known as the Northern Columbia Basin Railroad Project (the Project). According to the verified notice, the Port acquired the Line as part of a transaction for another CBRW line, referred to as Segment 3, that connects with the Line. The Port's authority to acquire Segment 3 was previously approved in Port of Moses Lake—Acquisition Exemption—Moses Lake, Wash. (Aug. 2009 Decision), FD 34936 (Sub-No. 1) (STB served Aug. 27, 2009). The Aug. 2009 Decision did not authorize the Port to acquire the Line. The Port states that it consummated its acquisition of Segment 3 and the Line on March 10, 2025. According to the Port, it is seeking authority to purchase the Line in accordance with the Board's September 12, 2025 decision in FD 34936 (Sub-No. 1). The Port states that CBRW will be the operator of the Line and that CBRW will seek an operation exemption before operations begin on the completed Project.

The Port certifies that the proposed transaction does not involve an interchange commitment. The Port also certifies that its projected annual revenues are not expected to exceed $5 million and that the proposed transaction will not result in the Port becoming a Class I or Class II rail carrier.

The transaction may be consummated on or after February 20, 2026, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 13, 2026 (at least seven days before the exemption becomes effective).

All pleadings, referring to Docket No. FD 36904, must be filed with the Surface Transportation Board either via e-filing on the Board's website or in writing addressed to 395 E Street SW, Washington, DC 20423-0001. In addition, a copy of each pleading must be served on the Port's representative, Sandra L. Brown, Thompson Hine LLP, 1919 M Street NW, Suite 700, Washington, DC 20036.

According to the Port, this action is categorically excluded from environmental review under 49 CFR 1105.6(c) and from historic preservation reporting requirements under 49 CFR 1105.8(b).

Board decisions and notices are available at www.stb.gov.

Decided: January 28, 2026.
By the Board, Anika S. Cooper, Chief Counsel, Office of Chief Counsel.
Stefan Rice,
Clearance Clerk.

[FR Doc. 2026-01887 Filed 1-29-26; 8:45 am]

BILLING CODE 4915-01-P